INTERNATIONAL TRADE COMMISSION

[Investigation No. 337-TA-454]

In the Matter of Certain Set-Top Boxes and Components Thereof; Notice of Investigation

AGENCY: International Trade Commission.

ACTION: Institution of investigation pursuant to 19 U.S.C. 1337.

SUMMARY: Notice is hereby given that a complaint was filed with the U.S. International Trade Commission on February 14, 2001, under section 337 of the Tariff Act of 1930, as amended, 19 U.S.C. 1337, on behalf of Gemstar-TV Guide International, Inc. of Pasadena, California and StarSight Telecast, Inc. of Fremont, California. A supplement to the complaint was filed on March 7, 2001. The complaint, as supplemented, alleges violations of section 337 in the importation into the United States, the sale for importation, and the sale within the United States after importation of certain set-top boxes and components thereof by reason of infringement of claims 18-24, 26, 27, 28, 31, 32, 33, 36, 42, 43, 48-51, 54, 57-61, and 66 of U.S. Letters Patent 4,706,121; claims 1-5 and 10-14 of U.S. Letters Patent 5,253,066; claims 1, 3, 8, and 10 of U.S. Letters Patent 5,479,268; and claims 14-17, 19, and 31-35 of U.S. Letters Patent 5,809,204. The complaint further alleges that there exists an industry in the United States as required by subsection (a)(2) of section 337.

The complainants request that the Commission institute an investigation and, after the investigation, issue a permanent exclusion order and a permanent cease and desist order.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS-ON-LINE) at http://dockets.usitc.gov/eol/public.

FOR FURTHER INFORMATION CONTACT: Thomas S. Fusco, Esq., Office of Unfair Import Investigations, U.S. International Trade Commission, telephone 202-205-2571.

Authority: The authority for institution of this investigation is contained in section 337 of the Tariff Act of 1930, as amended, and in § 210.10 of the Commission's rules of practice and procedure, 19 CFR 210.10 (2000).

Scope of Investigation

Having considered the complaint, the U.S. International Trade Commission, on March 14, 2001, ordered that—

(1) Pursuant to subsection (b) of section 337 of the Tariff Act of 1930, as amended, an investigation be instituted to determine whether there is a violation of subsection (a)(1)(B) of section 337 in the importation into the United States, the sale for importation, or the sale within the United States after importation of certain set-top boxes or components thereof by reason of infringement of claims 18-24, 26, 27, 28, 31, 32, 33, 36, 42, 43, 48-51, 54, 57-61, or 66 of U.S. Letters Patent 4,706,121; claims 1-5 or 10-14 of U.S. Letters Patent 5,253,066; claims 1, 3, 8, or 10 of U.S. Letters Patent 5,479,268; or claims 14-17, 19, or 31-35 of U.S. Letters Patent 5,809,204; and whether there exists an industry in the United States as required by subsection (a)(2) of section 337.

(2) For the purpose of the investigation so instituted, the following are hereby named as parties upon which this notice of investigation shall be served:

(a) The complainants are—

Gemstar-TV Guide International, Inc.

135 North Los Robles Avenue

Suite 800

Pasadena, California 91101

StarSight Telecast, Inc.

39650 Liberty Street

Fremont, California 94538

(b) The respondents are the following companies upon which the complaint is to be served—

Pioneer Corporation

4-1, Meguro 1-chome

Meguro-ku

Tokyo 153-8654

Japan

Pioneer North America, Inc.

2265 East 220th Street

Long Beach, California 98010

Pioneer Digital Technologies, Inc.

6170 Cornerstone Court

East San Diego, California 92121

Pioneer New Media Technologies, Inc.

2265 East 220th Street

Long Beach, California 98010

Scientific-Atlanta, Inc.

One Technology Parkway, South

Norcross, Georgia 30092-2967

EchoStar Communications Corporation

5701 South Santa Fe Drive

Littleton, Colorado 80120

SCI Systems, Inc.

2101 West Clinton Avenue

Huntsville, Alabama 35805

(c) Thomas S. Fusco, Office of Unfair Import Investigations, U.S. International Trade Commission, 500 E Street, S.W., Room 401-O, Washington, D.C. 20436, who shall be the Commission investigative attorney, party to this investigation; and

(3) For the investigation so instituted, the Honorable Debra Morriss is designated as the presiding administrative law judge.

Responses to the complaint and the notice of investigation must be submitted by the named respondents in accordance with § 210.13 of the Commission's rules of practice and procedure, 19 CFR 210.13. Pursuant to 19 CFR 201.16(d) and 210.13(a), such responses will be considered by the Commission if received no later than 20 days after the date of service by the Commission of the complaint and notice of investigation. Extensions of time for submitting responses to the complaint will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

By order of the Commission.
Issued: March 15, 2001.
Donna R. Koehnke,
Secretary.

[FR Doc. 01-7016 Filed 3-20-01; 8:45 am]

BILLING CODE 7020-02-P